DEPARTMENT OF THE INTERIOR

Bureau of Land Management

[19X.LLIDI02000. L71220000.FR0000. LVTFD1915100. 241A. 4500131504]

Notice of Intent To Prepare an Environmental Impact Statement for the Proposed Blackrock Land Exchange, Pocatello, Idaho

AGENCY: Bureau of Land Management, Interior.

ACTION: Notice of intent.

SUMMARY: In compliance with the National Environmental Policy Act of 1969, as amended (NEPA), and the Federal Land Policy and Management Act of 1976, as amended, the Bureau of Land Management (BLM) Pocatello Field Office, in Pocatello, Idaho, intends to prepare an Environmental Impact Statement (EIS) and by this notice is announcing the beginning of the scoping process to solicit public comments and identify issues.

DATES: This notice initiates the public scoping process for the proposed Blackrock Land Exchange EIS. Comments on issues may be submitted in writing until July 5, 2019. The BLM will hold two public meetings as part of the scoping process. The dates and locations of these scoping meeting will be announced at least 15 days in advance through local media, newspapers and the BLM website at: https://go.usa.gov/xEUuc. In order to be included in the Draft EIS, all comments must be received prior to the close of the 45-day scoping period or 15 days after the last public meeting, whichever is later. The BLM will provide additional opportunities for public participation upon publication of the Draft EIS.

ADDRESSES: You may submit comments related to the Blackrock Land Exchange by any of the following methods:

• Website: https://go.usa.gov/xEUuc

• Fax: 208.478.6376

• Mail: BLM, Pocatello Field Office, Attention: Bryce Anderson/Blackrock Land Exchange Project, 4350 S Cliffs Dr., Pocatello, ID 83204.

Documents pertinent to this proposal may be examined at the Pocatello Field Office.

FOR FURTHER INFORMATION CONTACT: Bryce Anderson, Project Manager by telephone: 208-478-6353; address: 4350 S Cliffs Dr., Pocatello, ID 83204; or email: bdanderson@blm.gov. Persons who use a telecommunications device for the deaf (TDD) may call the Federal Information Relay Service (FIRS) at 1-800-877-8339 to contact Mr. Anderson. The FIRS is available 24 hours a day, 7 days a week, to leave a message or question with Mr. Anderson. You will receive a reply during normal business hours.

SUPPLEMENTARY INFORMATION: In 1994, the J.R. Simplot Company (Simplot) submitted an application to acquire 719 acres of Federal land managed by the BLM in exchange for 667 acres of non-Federal land. The selected Federal land is adjacent to Simplot's Don Plant in Power and Bannock Counties, Idaho. The offered non-Federal lands are located in the Blackrock and Caddy Canyon areas in Bannock County approximately five miles east-southeast of Pocatello, Idaho.

In 1998, pursuant to the Comprehensive Environmental Response Compensation and Liability Act, the Don Plant facilities and the surrounding area known as the Eastern Michaud Flats (EMF) were designated a Superfund Site, including a portion of the proposed Federal lands to be exchanged. The BLM prepared an Environmental Assessment (EA) to analyze the proposed land exchange, and issued a Decision Record/Finding of No Significant Impact (DR/FONSI) on December 21, 2007. The Shoshone-Bannock Tribes litigated the decision in District Court. In May 2011, the Court granted the Tribes' motion and remanded the DR/FONSI to the BLM, ordering the agency to prepare an EIS.

The BLM's purpose is to evaluate the land exchange proposal. If approved, the proposal would improve resource management in an area containing crucial mule deer winter range and secure permanent public access to a popular recreation area. Simplot's purpose for the proposed exchange is to implement legally enforceable controls as directed by the Environmental Protection Agency (EPA) Record of Decision (ROD) for the EMF Superfund Site and required by a Consent Order (CO) from the Idaho Department of Environmental Quality. The CO requires Simplot to reduce fluoride emissions by 2026. To meet this requirement, Simplot has proposed construction of cooling ponds adjacent to its Don Plant in Pocatello, Idaho, which would require the acquisition of adjacent Federal lands. Additionally, this acquisition would allow for future onsite expansion of phosphate processing operations.

The purpose of the public scoping process is to determine relevant issues that will influence the scope of the environmental analysis, including alternatives, and guide the process for developing the EIS. At present, the BLM has identified the following preliminary issues:

• Concerns with contamination of surface and groundwater resources;

• Acquiring crucial mule deer winter range;

• Economic impacts on the region if production at the Don Plant slows or ceases (if the exchange is not approved);

• Retaining contaminated lands in Federal ownership; and

• Securing permanent access to Federal lands.

The BLM will fulfill the public involvement requirements under the National Historic Preservation Act (54 U.S.C. 306108) as provided in 36 CFR 800.2(d)(3) through the NEPA process. Information the BLM receives about historic and cultural resources within the area potentially affected by the proposed action will assist the BLM in identifying and evaluating impacts to such resources.

The BLM will consult with Native American Tribes on a government-to-government basis in accordance with Executive Order 13175 and other policies. The BLM will give Tribal concerns due consideration, including impacts on Native American trust assets and potential impacts to cultural resources.

The BLM invites Federal, State, and local agencies, along with Tribes and other stakeholders that may be interested in or affected by the proposed Blackrock Land Exchange to participate in the scoping process and environmental analysis, and if eligible, as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

John F. Ruhs,
BLM Idaho State Director.

[FR Doc. 2019-10473 Filed 5-17-19; 8:45 am]

BILLING CODE 4310-GG-P